DEPARTMENT OF ENERGY

Federal Energy Regulatory Commission

Notice of Request to Amend License and Solicit Comments, Motions to Intervene, and Protests

December 26, 2002.

Take notice that the following application has been filed with the Commission and is available for public inspection:

a. Application Type: Amendment of license to delete license article 434.

b. Project No: 2058-027.

c. Date Filed: April 11, 2002.

d. Applicant: Avista Corporation.

e. Name of Project: Clark Fork.

f. Location: The Clark Fork Project is located on the Clark Fork River in Bonner County, Idaho and Sanders County, Montana.

g. Filed Pursuant to: Federal Power Act, (16 U.S.C. 791(a) 825) and 799 and 801.

h. Applicant Contact: Steven Fry, Avista Corporation, 1411 East Mission, P.O. Box 3727, Spokane, WA 99220-0500, (509) 495-4084.

i. FERC Contact: Any questions regarding this notice should be addressed to Thomas LoVullo at (202) 502-8900, or e-mail address: thomas.lovullo@ferc.gov.

j. Deadline for filing comments and or motions: January 27, 2003.

All documents (an original and eight copies) should be filed with: Ms. Magalie R. Salas, Secretary, Federal Energy Regulatory Commission, 888 First Street, NE., Washington DC 20426. Please reference the project number (P-2058) on any comments or motions filed with the Commission.

k. Description of Request: Article 434 requires Avista Corporation (licensee) to file a plan, with the Commission, to conduct seasonal, site-specific monitoring of bank profiles in the lower Clark Fork River. The licensee indicated that prior to relicensing of the project, it initiated easement discussions with the individual landowners. As of December 2001, the licensee indicated, it acquired 69 out of a possible 87 easements. The licensee stated that the erosion issues of the landowners group have been adequately addressed and, therefore, requested that license article 434 be deleted. The Clark Fork Management Committee, which is comprised of one representative from each of the 27 parties (the licensee, state and federal resource agencies, Native American tribes and non-governmental organizations) to the licensing Settlement Agreement, concurred that article 434 was no longer necessary and should be deleted.

l. A copy of the application is available for review at the Commission in the Public Reference Room or may be viewed on the Commission's Web site at http://www.ferc.gov using the “FERRIS” link. Enter the docket number excluding the last three digits in the docket number field to access the document. For assistance, contact FER Online Support at FERCOnlineSupport@ferc.gov or toll-free at 1-866-208-3676, or for TTY (202) 502-8659. A copy is also available for inspection and reproduction at the address in item h above.

m. Individuals desiring to be included on the Commission's mailing list should so indicate by writing to the Secretary of the Commission.

n. Comments, Protests, or Motions to Intervene—Anyone may submit comments, a protest, or a motion to intervene in accordance with the requirements of rules of practice and procedure, 18 CFR 385.210, .211, .214. In determining the appropriate action to take, the Commission will consider all protests or other comments filed, but only those who file a motion to intervene in accordance with the Commission's Rules may become a party to the proceeding. Any comments, protests, or motions to intervene must be received on or before the specified comment date for the particular application.

o. Filing and Service of Responsive Documents—Any filings must bear in all capital letters the title “COMMENTS”, “RECOMMENDATIONS FOR TERMS AND CONDITIONS”, “PROTEST”, OR “MOTION TO INTERVENE”, as applicable, and the Project Number of the particular application to which the filing refers. A copy of any motion to intervene must also be served upon each representative of the Applicant specified in the particular application.

p. Agency Comments—Federal, State, and local agencies are invited to file comments on the described application. A copy of the application may be obtained by agencies directly from the Applicant. If an agency does not file comments within the time specified for filing comments, it will be presumed to have no comments. One copy of an agency's comments must also be sent to the Applicant's representatives. q. Comments, protests and interventions may be filed electronically via the Internet in lieu of paper. See 18 CFR 385.2001(a)(1)(iii) and the instructions on the Commission's Web site at http://www.ferc.gov under the “e-Filing” link.

Linwood A. Watson, Jr.,
Deputy Secretary.

[FR Doc. 02-33051 Filed 12-31-02; 8:45 am]

BILLING CODE 6717-01-P